Title 3—

The President

Proclamation 9908 of July 14, 2019

Made in America Day and Made in America Week, 2019

By the President of the United States of America

A Proclamation

On Made in America Day and during Made in America Week, we honor the extraordinary efforts of American entrepreneurs, workers, and farmers in revitalizing our Nation's economy. Products made in America are the world standard for quality and showcase the craftsmanship of the most innovative, diverse, highly skilled, and dedicated workforce in the world.

When we buy American-made products, we support the American workers who build them and we invigorate the American economy, driving job growth, spurring innovation, and bolstering the middle class. We have already witnessed the creation of more than 6 million new jobs since my election, and wages are rising at the highest pace in a decade. Through historic tax and regulatory reform, workforce initiatives, trade enforcement, and the negotiation of new trade deals, my Administration is fulfilling our promise to make “buy American and hire American” the new standard. My Administration is striving to ensure that items purchased by the Government are made in America, with American materials, and by American hands.

Thanks to the enactment of the Tax Cuts and Jobs Act and the elimination of burdensome and unnecessary regulations, American workers and entrepreneurs have renewed confidence. American companies are becoming more competitive with their foreign counterparts and have more money to invest in their employees through bonuses, higher wages, and increased contributions to retirement plans.

My Administration is also pursuing fair trade by working to level the playing field so that American companies can compete in an increasingly global market. To fight against unfair trade practices, we are vigorously enforcing our Nation's existing trade laws. We significantly updated one of our most consequential trade deals, the United States-Korea Free Trade Agreement (KORUS) to make it more beneficial to American workers. I also delivered on my promise to renegotiate the outdated and unbalanced North American Free Trade Agreement (NAFTA) with the signing of the United States-Mexico-Canada Agreement (USMCA). Once approved by the Congress, the USMCA will help reverse longstanding trade imbalances by granting American businesses across all sectors of our economy greater freedom to sell their goods and services throughout North America.

Last year, I signed an Executive Order establishing the President's National Council for the American Worker and the American Workforce Policy Advisory Board to focus on retraining our workforce and equipping students and workers with the skills they need to be successful across high-demand industries. We are asking companies to commit to expanding programs that educate, train, and re-skill American workers of all ages by signing our Pledge to America's Workers.

It is imperative that we keep investing in the industrious American workers, job creators, and inventors who always succeed at leading in innovation and ingenuity, and never fail to inspire the rest of the world. My Administration will always back our American workers and manufacturers as they continue their hard work to keep the American economy strong and propel our Nation toward a more prosperous future.

NOW, THEREFORE, I, DONALD J. TRUMP, President of the United States of America, by virtue of the authority vested in me by the Constitution and the laws of the United States, do hereby proclaim July 15, 2019, as Made in America Day and this week, July 14 through July 20, 2019, as Made in America Week. I call upon all Americans to pay special tribute to the builders, the ranchers, the crafters, the entrepreneurs, and all those who work with their hands every day to make America great.

IN WITNESS WHEREOF, I have hereunto set my hand this fourteenth day of July, in the year of our Lord two thousand nineteen, and of the Independence of the United States of America the two hundred and forty-fourth.

[FR Doc. 2019-15448

Filed 7-17-19; 8:45 am]

Billing code 3295-F9-P